DEPARTMENT OF AGRICULTURE

Office of the Secretary

Notice of Solicitation for Membership to the National Agricultural Research, Extension, Education, and Economics Advisory Board.

AGENCY: Research, Education, and Economics, USDA.

ACTION: Solicitation for membership.

SUMMARY: The United States Department of Agriculture announces solicitation for nominations to fill 10 vacancies on the National Agricultural Research, Extension, Education, and Economics Advisory Board.

DATE: Deadline for Advisory Board member nominations is June 23, 2000.

SUPPLEMENTARY INFORMATION: Section 802 of the Federal Agricultural Improvement and Reform Act of 1996 authorized the creation of the National Agricultural Research, Extension, Education, and Economics Advisory Board. The Board is composed of 30 members, each representing a specific category related to farming or ranching, food production and processing, forestry research, crop and animal science, land-grant institutions, food retailing and marketing, rural economic development, and natural resource and consumer interest groups, among many others. The Board was first appointed in September 1996 and one-third of the 30 members were appointed for a l, 2, and 3 year term, respectively.

As a result of the staggered appointments, the terms for 10 of the 30 members who represent 10 specific categories will expire September 30, 2000. Nominations for a 3-year appointment for all 10 of the vacant categories are sought. Nominees will be carefully reviewed for their broad expertise, leadership, and relevancy to a category. The 10 vacancies are:

A. National Farm Organization

C. Food Animal Commodity Producers

F. National Crop Commodity Organizations

K. National Human Health Associations

P. Hispanic-serving Institutions

Q. American Colleges of Veterinary Medicine

S. Transportation of Food and Agricultural Products (Foreign and domestic)

U. Food and Fiber Processors

Z. International Development/Private Sector Organizations

CC. National Social Science Associations

Nominations are being solicited from organizations, associations, societies, councils, federations, groups, and companies that represent a wide variety of food and agricultural interests. Nominations for one individual who fits several of the categories listed above, or for more than one person who fits one category will be accepted. Please indicate the specific membership category for each nominee. Each nominee must fill out a form AD-755, “Advisory Committee Membership Background Information” (which can be obtained from the contact person below) and will be vetted before selection. Send nominatee's name, resume, and their completed AD-755 to the Office of the Advisory Board, Research, Education, and Economics, Room 344A Jamie L. Whitten Building, Department of Agriculture, Washington, DC 20250-2255 no later than June 23, 2000.

FOR FURTHER INFORMATION CONTACT: Deborah Hanfman, Executive Director, National Agricultural Research, Extension, Education, and Economics Advisory Board, Research, Education, and Economics Advisory Board Office, Room 344A, Jamie L. Whitten Research, Education, and Economics Advisory Board Office, Room 344A, Jamie L. Whitten Building, U.S. Department of Agriculture, STOP: 2255, 1400 Independence Avenue, SW, Washington, DC 20250-2255. Telephone: 202-720-3684. Fax: 202-720-6199, or e-mail: lshea@reeusda.gov.

Done at Washington, D.C. this 16th day of May 2000.
I. Miley Gonzalez,
Under Secretary, Research, Education, and Economics.

[FR Doc. 00-13550 Filed 5-30-00; 8:45 am]

BILLING CODE 3410-22-P